CONSUMER PRODUCT SAFETY COMMISSION

Proposed Collection; Comment Request; Clothing Textiles, Vinyl Plastic Film

AGENCY: Consumer Product Safety Commission.

ACTION: Notice.

SUMMARY: As required by the Paperwork Reduction Act of 1995 (44 U.S.C. chapter 35), the Consumer Product Safety Commission requests comments on a proposed extension of approval of a collection of information from manufacturers and importers of clothing, and textiles and related materials intended for use in clothing. This collection of information is required in regulations implementing the Standard for the Flammability of Clothing Textiles (16 CFR part 1610) and the Standard for the Flammability of Vinyl Plastic Film (16 CFR part 1611). These regulations establish requirements for testing and recordkeeping for manufacturers and importers who furnish guaranties for products subject to the flammability standards for clothing textiles and vinyl plastic film. The Commission will consider all comments received in response to this notice before requesting an extension of approval of this collection of information from the Office of Management and Budget.

DATES: Written comments must be received by the Office of the Secretary not later than September 11, 2006.

ADDRESSES: Written comments should be captioned “Clothing Textiles and Film, Collection of Information” and e-mailed to the Office of the Secretary at cpsc-os@cpsc.gov, or mailed to the Office of the Secretary, Consumer Product Safety Commission, 4330 East West Highway, Bethesda, Maryland, 20814. Written comments may also be sent to the Office of the Secretary by facsimile at (301) 504-0127.

FOR FURTHER INFORMATION CONTACT: For information about the proposed extension of the collection of information, or to obtain a copy of 16 CFR parts 1610 and 1611, call or write Linda L. Glatz, Office of Planning and Evaluation, Consumer Product Safety Commission, 4330 East West Highway, Bethesda, Maryland; telephone (301) 504-7671; e-mail lglatz@cpsc.gov.

SUPPLEMENTARY INFORMATION:

A. Background

Clothing and fabrics intended for use in clothing (except children's sleepwear in sizes 0 through 14) are subject to the Standard for the Flammability of Clothing Textiles (16 CFR Part 1610). Clothing made from vinyl plastic film and vinyl plastic film intended for use in clothing (except children's sleepwear in sizes 0 through 14) are subject to the Standard for the Flammability of Vinyl Plastic Film (16 CFR part 1611). These standards prescribe a test to assure that articles of wearing apparel, and fabrics and film intended for use in wearing apparel, are not dangerously flammable because of rapid and intense burning. (Children's sleepwear and fabrics and related materials intended for use in children's sleepwear in sizes 0 through 14 are subject to other, more stringent flammability standards, codified at 16 CFR parts 1615 and 1616.) The flammability standards for clothing textiles and vinyl plastic film were made mandatory by the Flammable Fabrics Act of 1953 (FFA) (Pub. L. 83-88, 67 Stat. 111; June 30, 1953).

Section 8 of the FFA (15 U.S.C. 1197) provides that a person who receives a guaranty in good faith that a product complies with an applicable flammability standard is not subject to criminal prosecution for a violation of the FFA resulting from the sale of any product covered by the guaranty. Section 8 of the FFA requires that a guaranty must be based on “reasonable and representative tests.” The Commission estimates that about 1,000 manufacturers and importers of clothing, and of textiles and vinyl film intended for use in clothing, issue guaranties that the products they produce or import comply with the applicable standard.

B. Testing and Recordkeeping

Regulations implementing the flammability standards for clothing textiles and vinyl plastic film prescribe requirements for testing and recordkeeping by firms that issue guaranties. See 16 CFR part 1610, subpart B, and 16 CFR part 1611, subpart B.

The Commission uses the information compiled and maintained by firms that issue these guaranties to help protect the public from risks of injury or death associated with clothing and fabrics and vinyl film intended for use in clothing. More specifically, the information helps the Commission arrange corrective actions if any products covered by a guaranty fail to comply with the applicable standard in a manner that creates a substantial risk of injury or death to the public. The Commission also uses this information to determine whether the requisite testing was performed to support the guaranties.

The Office of Management and Budget (OMB) approved the collection of information in the enforcement regulations implementing the standards for clothing textiles and vinyl plastic film under control number 3041-0024. OMB's most recent extension of approval will expire on September 30, 2006. The Commission proposes to request an extension of approval without change for the collection of information in those regulations.

C. Estimated Burden

The Commission staff estimates that about 1,000 firms that manufacture or import products subject to the flammability standards for clothing textiles and vinyl plastic film issue guaranties that the products they produce or import comply with the applicable standard. The Commission staff estimates that these standards and implementing regulations will impose an average annual burden of about 101.6 hours on each of those firms. That burden will result from conducting the testing and maintaining records required by the implementing regulations. The total annual burden imposed by the standards and regulations on all manufacturers and importers of clothing textiles and vinyl plastic film will be about 101,600 hours.

The hourly wage for the testing and recordkeeping required by the standards and regulations is about $42.84, for an estimated annual cost to the industry of nearly $4.4 million.

D. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: July 5, 2006.
Todd A. Stevenson,
Secretary, Consumer Product Safety Commission.

[FR Doc. E6-10752 Filed 7-10-06; 8:45 am]

BILLING CODE 6355-01-P